DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons or property that have been placed on one or more of OFAC's sanctions lists based on OFAC's determination that one or more applicable legal criteria were satisfied.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

A. Blocking of Property and Interests in Property Pursuant to E.O. 14024

On February 24, 2022, OFAC determined that the property and interests in property subject to U.S. jurisdiction of the following persons are blocked under the relevant sanctions authority listed below. U.S. persons are generally prohibited from engaging in transactions with them. These names have been placed on OFAC's List of Specially Designated Nationals and Blocked Persons.

BILLING CODE 4810-AL-P

B. Persons Determined To Be Subject to Directive 2 Under E.O. 14024

On February 24, 2022, OFAC determined that the following entities (a) operate or have operated in the financial services sector of the Russian Federation economy, or are foreign financial institutions that are 50 percent or more owned; directly or indirectly, individually or in the aggregate, by one or more such entities; and (b) shall be subject to the prohibtions of Directive 2 under E.O. 14024, “Prohibitions Related to Correspondent Accounts and Processing of Transactions Involving Certain Foriegn Financial Institutions.” These names have been placed on OFAC's List of Foreign Financial Institutions Subject to Correspondent Account or Payable-Through Account Sanctions.

C. Persons Detemined To Be Subject to Directive 3 Under E.O. 4024

On February 24, 2022, OFAC determined that the following entities (a) operate or have operated in the financial services sector of the Russian Federation economy, and (b) shall be subject to the prohibitions of Directive 3 under E.O. 14024, “Prohibitions Related to New Debt and Equity of Certain Russia-related Entities.” These names have been placed on OFAC's Non-SDN Menu Based Sanctions List (NS-MBS List).

Dated: February 24, 2022.
Andrea M. Gacki,
Director, Office of Foreign Assets Control, U.S. Department of the Treasury.

[FR Doc. 2022-04337 Filed 3-1-22; 8:45 am]

BILLING CODE 4810-AL-C